DEPARTMENT OF COMMERCE

National Oceanic and Atmospheric Administration

RIN 0648-XE677

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council) Ecosystem and Ocean Planning Committee will hold a public meeting.

DATES: The meeting will be held on Thursday July 7, 2016, from 9 a.m. to 5 p.m. For agenda details, see SUPPLEMENTARY INFORMATION.

ADDRESSES: The meeting will be held at the BWI Airport Marriott, 1743 West Nursery Road, Linthicum, MD 21090; telephone: (410) 859-8300. A webinar connection will also be available. Information on how to connect via webinar will be posted to www.mafmc.org.

Council address: Mid-Atlantic Fishery Management Council, 800 N. State Street, Suite 201, Dover, DE 19901; telephone: (302) 674-2331; Web site: www.mafmc.org.

FOR FURTHER INFORMATION CONTACT: Christopher M. Moore, Ph.D., Executive Director, Mid-Atlantic Fishery Management Council, telephone: (302) 526-5255.

SUPPLEMENTARY INFORMATION: The MAFMC's Ecosystem and Ocean Planning (EOP) Committee will meet to discuss the Council's Unmanaged Forage Omnibus Amendment. This amendment will prohibit the development of new and expansion of existing directed commercial fisheries on unmanaged forage species in Mid-Atlantic Federal waters until the Council has had an adequate opportunity to both assess the scientific information relating to any new or expanded directed fisheries and consider potential impacts to existing fisheries, fishing communities, and the marine ecosystem. At this meeting, the EOP Committee will consider comments received during public hearings on the amendment, as well as recommendations from the EOP Advisory Panel. The EOP Committee will develop recommendations to the full Council for final action on the amendment. The Council plans to take final action on this amendment at their meeting in Virginia Beach on August 8-11, 2016. More information on the EOP Committee meeting, and the August Council meeting, including agendas and background materials, will be posted to www.mafmc.org.

Special Accommodations

The meeting is physically accessible to people with disabilities. Requests for sign language interpretation or other auxiliary aid should be directed to M. Jan Saunders, (302) 526-5251, at least 5 days prior to the meeting date.

Dated: June 8, 2016.
Tracey L. Thompson,
Acting Deputy Director, Office of Sustainable Fisheries, National Marine Fisheries Service.

[FR Doc. 2016-13892 Filed 6-10-16; 8:45 am]

BILLING CODE 3510-22-P